DEPARTMENT OF DEFENSE

Department of the Army, Corps of Engineers

33 CFR Part 328

ENVIRONMENTAL PROTECTION AGENCY

40 CFR Parts 110, 112 116, 117, 122, 230, 232, 300, 302, and 401

[EPA-HQ-OW-2011-0880; FRL-9918-34-OW]

RIN 2040-AF30

Definition of “Waters of the United States” Under the Clean Water Act Proposed Rule; Notice of Availability

AGENCIES: U.S. Army Corps of Engineers (Corps), Department of the Army, Department of Defense; and Environmental Protection Agency (EPA).

ACTION: Proposed rule; notice of availability.

SUMMARY: This document announces the availability of the Science Advisory Board's (SAB) final peer review of the EPA's draft report Connectivity of Streams and Wetlands to Downstream Waters: A Review and Synthesis. This document has been placed in the docket for the EPA and the Corps proposed rule “Definition of `Waters of the United States' Under the Clean Water Act.”

DATES: The public comment for the proposed rule closes on November 14, 2014.

FOR FURTHER INFORMATION CONTACT: Ms. Donna Downing, Office of Water (4502-T), Environmental Protection Agency, 1200 Pennsylvania Avenue NW., Washington, DC 20460; telephone number 202-566-2428; email address: CWAwaters@epa.gov.

SUPPLEMENTARY INFORMATION: On April 21, 2014, EPA and the Corps published the proposed rule “Definition of `Waters of the United States' Under the Clean Water Act” in the Federal Register (79 FR 22188). The public comment for the proposed rule closes on November 14, 2014. The independent SAB has completed a peer review of the proposed rule's primary supporting document, EPA's draft report Connectivity of Streams and Wetlands to Downstream Waters: A Review and Synthesis. The peer review was drafted by the SAB's Panel for the Review of the EPA Water Body Connectivity Report and approved by the chartered SAB. The final peer review has been placed as a supporting document in the docket for this proposed rulemaking and is available on the SAB's Web site, http://yosemite.epa.gov/sab/sabpeople.nsf/WebCommittees/BOARD.

How can I get copies of this document and other related information?

1. Docket. EPA has established a docket for this action under Docket ID No. EPA-HQ-OW-2011-0880; FRL-9901-47-OW. Publicly available docket materials are available either electronically through http://www.regulations.gov or in hard copy at the Docket in the EPA Docket Center, (EPA/DC) EPA West, Room 3334, 1301 Constitution Ave. NW., Washington, DC. The EPA Docket Center Public Reading Room is open from 8:30 a.m. to 4:30 p.m., Monday through Friday, excluding legal holidays. The telephone number for the Public Reading Room is (202) 566-1744, and the telephone number for the Water Docket is (202) 566-2426.

2. Electronic Access. You may access this Federal Register document electronically from the Government Printing Office under the “Federal Register” listings at FDSys (http://www.gpo.gov/fdsys/browse/collection.action?collectionCode=FR).

Dated: October 14, 2014.
Benita Best-Wong,
Director, Office of Wetlands, Oceans and Watersheds, Environmental Protection Agency.
Dated: October 14, 2014.
James Hannon,
Chief, Operations and Regulatory Division, U.S. Army Corps of Engineers.

[FR Doc. 2014-25138 Filed 10-23-14; 8:45 am]

BILLING CODE 6560-50-P